DEPARTMENT OF HOMELAND SECURITY

Customs and Border Protection

U.S. Customs and Border Protection Trade Symposium 2011: “Working Together To Strengthen Economic Competitiveness”

AGENCY: Customs and Border Protection, DHS.

ACTION: Notice of trade symposium.

SUMMARY: This document announces that U.S. Customs and Border Protection (CBP) will convene its annual trade symposium, featuring panel discussions involving agency personnel, members of the trade community and other government agencies, on the agency's role in international trade initiatives and programs. This year marks our eleventh year hosting a trade symposium. Members of the international trade and transportation communities and other interested parties are encouraged to attend.

DATES: Wednesday, April 13, 2011 (opening remarks and panel discussions—9:30 a.m.-5 p.m. and open forum with senior management—5:45 p.m.-7:15 p.m.). Thursday, April 14, 2011 (panel discussions—8:30 a.m.-5 p.m.).

ADDRESSES: The CBP Trade Symposium will be held at the Ronald Reagan Building and International Trade Center (RRB) in the Atrium, Atrium Ballroom and Atrium Hall, at 1300 Pennsylvania Avenue, NW., Washington, DC 20004. Upon entry into the RRB, please have a government-issued photo identification to show to the security guard.

FOR FURTHER INFORMATION CONTACT: The Office of Trade Relations at (202) 344-1440, or at tradeevents@dhs.gov. To obtain the latest information on the Symposium and to register on-line, visit the CBP Web site at http://www.cbp.gov. Requests for special needs should be sent to the Office of Trade Relations at tradeevents@dhs.gov.

SUPPLEMENTARY INFORMATION: The agenda for the Trade Symposium and the keynote speakers will be announced at a later date on the CBP Web site. The registration fee is $450.00 per person, and includes all Symposium activities for two full days. Interested parties are requested to register early, as space is limited. Registration will open to the public on or about February 14, 2011. All registrations must be made on-line at the CBP Web site (http://www.cbp.gov) and will be confirmed with payment by credit card only. Consideration will be given, on a first come, first served order, based on space availability. Due to the overwhelming interest to attend past Symposiums, each company is requested to limit their company's registrations to no more than three participants, in order to afford equal representation from all members of the international trade community. If a company exceeds the limitation, any additional names submitted for registration will automatically be placed on the waiting list.

As an alternative to on-site attendance, access to live webcasting of the event will be available for a fee of $150.00. This includes two days of broadcast and historical access to recorded sessions for a period of time after the event.

Hotel accommodations have been reserved at the following locations:

• Hilton Alexandria Mark Center, 703.845.1010, $211.00/night http://www1.hilton.com/en_US/hi/hotel/DCAAHHF-Hilton-Alexandria-Mark-Center-Virginia/index.do, Group Code: CBP2;

• Crystal City Marriot at Reagan National Airport, 703.413.6535, $299.00/night, http://www.marriott.com/hotels/travel/WASCC?groupCode=CSTCSTA&app=resvlink&fromDate=4/12/11&toDate=4/15/11;

• Crystal Gateway Marriot, Arlington, VA, 888.236.2427, $289.00/night, http://www.marriott.com/hotels/travel/WASGW?groupCode=CABCABA&app=resvlink&fromDate=4/12/11&toDate=4/15/11;

• Courtyard Arlington Crystal City/Reagan National Airport, 800.321.2211, $249.00/night, http://www.marriott.com/hotels/travel/wasct?groupCode=cbtcbta&app=resvlink&fromDate=4/12/11&toDate=4/16/11;

• Courtyard Alexandria, Alexandria, VA, 888.236.2427, $229.00/night http://www.marriott.com/hotels/travel/WASAL?groupCode=CBTCBTA&app=resvlink&fromDate=4/12/11&toDate=4/15/11;

• Spring Hill Suites, Alexandria, VA, 888.236.2427, $229.00/night, http://www.marriott.com/hotels/travel/WASAL?groupCode=CBTCBTA&app=resvlink&fromDate=4/12/11&toDate=4/15/11;

• Key Bridge Marriot, Arlington, VA, 800.266.9432, $279.00/night, https://resweb.passkey.com/Resweb.do?mode=welcome_ei_new&eventID=3284002;

• Residence Inn Arlington Capital View, 800.228.9290, $259.00/night, http://www.marriott.com/hotels/travel/wasry?groupCode=trytrya&app=resvlink&fromDate=4/12/11&toDate=4/15/11;

• Renaissance Arlington Capital View Hotel, 800.228.9290, $249.00/night, http://www.marriott.com/hotels/travel/waspy?groupCode=trstrsa&app=resvlink&fromDate=4/12/11&toDate=4/15/11;

• Westin Tyson's Corner, Falls Church, VA, 800.937.8461, $211.00/night, http://www.starwoodmeeting.com/StarGroupsWeb/res?id=1101268705&key=20F8C.

Reservations must be made directly with the hotel. We encourage you to make your reservations early as the cutoff date for the special rates listed is March 13, 2011.

Dated: February 7, 2011.
Maria Luisa O'Connell,
Senior Advisor for Trade and Public Relations, Office of Trade Relations.

[FR Doc. 2011-3170 Filed 2-10-11; 8:45 am]

BILLING CODE 9111-14-P